DEPARTMENT OF ENERGY

Federal Energy Regulatory Commission

Combined Notice of Filings #3

Take notice that the Commission received the following electric corporate filings:

Docket Numbers: EC12-29-000.

Applicants: Bluegrass Generation Company, L.L.C., Louisville Gas & Electric Company, Kentucky Utilities Company.

Description: Section 203 Application of Bluegrass Generation Company, L.L.C., et al.

Filed Date: 11/14/2011.

Accession Number: 20111114-5470.

Comment Date: 5 p.m. ET on 12/5/2011.

Take notice that the Commission received the following electric rate filings:

Docket Numbers: ER12-411-000.

Applicants: Puget Sound Energy, Inc.

Description: Temporary Operational Support Program Agreement to be effective 10/1/2011.

Filed Date: 11/15/2011.

Accession Number: 20111115-5005.

Comment Date: 5 p.m. ET on 12/6/2011.

Docket Numbers: ER12-412-000.

Applicants: PJM Interconnection, L.L.C.

Description: Request of PJM Interconnection, L.L.C. For Limited Tariff Waiver, Shortened Comment Period, And Expedited Commission Action.

Filed Date: 11/14/2011.

Accession Number: 20111114-5462.

Comment Date: 5 p.m. ET on 11/21/2011.

Docket Numbers: ER12-413-000.

Applicants: Xcel Energy Services Inc.

Description: Notice of Cancellation of Xcel Energy Services Inc, et al. under ER12-413.

Filed Date: 11/14/2011.

Accession Number: 20111114-5465.

Comment Date: 5 p.m. ET on 12/5/2011.

Take notice that the Commission received the following electric reliability filings:

Docket Numbers: RD11-13-000.

Applicants: North American Electric Reliability Corporation.

Description: Petition of the North American Electric Reliability Corporation for Approval of a Proposed Modification to the Glossary of Terms Used in Reliability Standards Definition of “Protection System”.

Filed Date: 03/30/2011.

Accession Number: 20110330-5244.

Comment Date: 5 p.m. ET on 12/15/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2011.
Nathaniel J. Davis, Sr.,
Deputy Secretary.

[FR Doc. 2011-30111 Filed 11-21-11; 8:45 am]

BILLING CODE 6717-01-P